Title 3—

The President

Proclamation 7326 of June 29, 2000

To Extend Nondiscriminatory Treatment (Normal Trade Relations Treatment) to the Products of Albania and Kyrgyzstan

By the President of the United States of America

A Proclamation

1. Albania has made progress, since its emergence from communism, toward democratic rule and the creation of a market economy. Further, I have found Albania to be in full compliance with the freedom of emigration requirements under title IV of the Trade Act of 1974 (the “Trade Act”) (19 U.S.C. 2431, et seq.). In 1998, Albania concluded a bilateral investment treaty with the United States. Albania is in the process of acceding to the World Trade Organization (WTO). The extension of unconditional normal trade relations treatment to the products of Albania will permit the United States to avail itself of all rights under the WTO with respect to Albania when that country becomes a member of the WTO.

2. Pursuant to section 301(b) of Public Law 106-200, 114 Stat. 289, and having due regard for the findings of the Congress in section 301(a) of that law, I hereby determine that title IV of the Trade Act should no longer apply to Albania.

3. Since 1991, Kyrgyzstan has made great progress toward democratic rule and toward creating a free-market economic system. Further, I have found Kyrgyzstan to be in full compliance with the freedom of emigration requirements under title IV of the Trade Act. In 1994, Kyrgyzstan concluded a bilateral investment treaty with the United States, and in 1999 Kyrgyzstan became a member of the WTO. The extension of unconditional normal trade relations treatment to the products of Kyrgyzstan will permit the United States to avail itself of all rights under the WTO with respect to Kyrgyzstan.

4. Pursuant to section 302(b) of Public Law 106-200, 114 Stat. 289-90, and having due regard for the findings of the Congress in section 302(a) of that law, I hereby determine that title IV of the Trade Act should no longer apply to Kyrgyzstan.

NOW, THEREFORE, I WILLIAM J. CLINTON, President of the United States of America, acting under the authority vested in me by the Constitution and the laws of the United States, including but not limited to sections 301(b)(1)(B) and 302(b)(1)(B) of Public Law 106-200, do hereby proclaim that:

(1) Nondiscriminatory treatment (normal trade relations treatment) shall be extended to the products of Albania;

(2) The extension of nondiscriminatory treatment to the products of Albania shall be effective as of the date of signature of this proclamation;

(3) Nondiscriminatory treatment (normal trade relations treatment) shall be extended to the products of Kyrgyzstan;

(4) The extension of nondiscriminatory treatment to the products of Kyrgyzstan shall be effective as of the date of signature of this proclamation.

IN WITNESS WHEREOF, I have hereunto set my hand this twenty-ninth day of June, in the year of our Lord two thousand, and of the Independence of the United States of America the two hundred and twenty-fourth.

wj

[FR Doc. 00-17184

Filed 7-3-00; 11:15 am]

Billing code 3195-01-P